DEPARTMENT OF THE INTERIOR

Bureau of Indian Affairs

Notice of Consultation Meetings With Interested Parties on Preparing Contract Regulations Governing the Use of the Authority in 25 U.S.C. 47, as Amended (aka the Buy Indian Act)

AGENCY: Bureau of Indian Affairs, Interior.

ACTION: Notice.

SUMMARY: Notice is given that the Bureau of Indian Affairs will conduct three consultation meetings to receive oral comments on the content of rules being prepared to govern the award and administration of acquisitions made under the authority of 25 U.S.C. 47, as amended (aka the Buy Indian Act).

DATES: The consultation meeting dates are:

1. October 25, 2001, Oklahoma City, Oklahoma.

2. November 8, 2001, Scottsdale, Arizona.

3. November 15, 2001, Portland, Oregon.

All meetings will begin at 1 p.m. and continue until 4:30 p.m. or until all meeting participants have had an opportunity to make comments.

Attendees are requested to provide written notice of their intent to attend a specific meeting to the contact person listed in FOR FURTHER INFORMATION CONTACT section.

ADDRESSES: The meeting locations are:

1. Oklahoma City—Westin, One North Broadway, Oklahoma City, OK.

2. Scottsdale—Doubletree La Posada, 4949 East Lincoln Drive, Scottsdale, AZ.

3. Portland—Doubletree Columbia River, 1401 N. Hayden Island Drive, Portland, OR.

FOR FURTHER INFORMATION CONTACT: Peter Markey, Procurement Analyst, Bureau of Indian Affairs, Division of Acquisition and Property Management, 2051 Mercator Drive, Reston, Virginia 20191; Telephone: (703) 390-6479.

SUPPLEMENTARY INFORMATION: The meetings will provide interested parties an opportunity to comment on the key points expected to be included in the Buy Indian Act regulations. The regulations will not govern self-determination or self-governance agreements made with Indian tribal governments. The regulations will govern the set-aside process for the award of contracts with Indian economic enterprises that are at least 51 percent Indian owned or are tribally owned economic enterprises. If not tribally owned, one or more Indian owners must be involved in the daily business management of the enterprise. The majority of profits must accrue to the Indian owners or, if the contractor is a nonprofit organization, the majority of the board of directors must be members of federally recognized tribes.

The attendees at the meetings will be briefed on the key points planned for inclusion in the regulations and questions and comments will be received at the meetings. After the consultation meetings, draft regulations will be published in the Federal Register and written comments will be received. The regulations are intended to provide a regulatory basis for the policy followed by the Bureau of Indian Affairs when contracting with Indian economic enterprises on a preferential basis.

This notice is published under the authority delegated by the Secretary of the Interior to the Assistant Secretary—Indian Affairs by 209 Departmental Manual 8.1.

Dated: October 10, 2001.
Neal A. McCaleb,
Assistant Secretary—Indian Affairs.

[FR Doc. 01-26225 Filed 10-17-01; 8:45 am]

BILLING CODE 4310-02-P